DEPARTMENT OF COMMERCE

Foreign-Trade Zones Board

[B-61-2018]

Foreign-Trade Zone 29—Louisville, Kentucky; Application for Subzone, United Parcel Service, Inc., Louisville, Kentucky

An application has been submitted to the Foreign-Trade Zones (FTZ) Board by the Louisville and Jefferson County Riverport Authority, grantee of FTZ 29, requesting subzone status for the facility of United Parcel Service, Inc (UPS), located in Louisville, Kentucky. The application was submitted pursuant to the provisions of the Foreign-Trade Zones Act, as amended (19 U.S.C. 81a-81u), and the regulations of the FTZ Board (15 CFR part 400). It was formally docketed on October 1, 2018.

The proposed subzone (176 acres) is located at 8100 Air Commerce Drive, Louisville. No authorization for production activity has been requested at this time.

In accordance with the FTZ Board's regulations, Elizabeth Whiteman of the FTZ Staff is designated examiner to review the application and make recommendations to the FTZ Board.

Public comment is invited from interested parties. Submissions shall be addressed to the FTZ Board's Executive Secretary at the address below. The closing period for their receipt is November 14, 2018. Rebuttal comments in response to material submitted during the foregoing period may be submitted during the subsequent 15-day period to November 29, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Elizabeth Whiteman at Elizabeth.Whiteman@trade.gov or (202) 482-0473.

Dated: October 1, 2018.
Andrew McGilvray,
Executive Secretary.

[FR Doc. 2018-21724 Filed 10-4-18; 8:45 am]

BILLING CODE 3510-DS-P